DEPARTMENT OF TRANSPORTATION

Coast Guard

[USCG-2000-7670]

Commercial Fishing Industry Vessel Advisory Committee

AGENCY: Coast Guard, DOT.

ACTION: Notice of meetings.

SUMMARY: The Commercial Fishing Industry Vessel Advisory Committee (CFIVAC) will meet to discuss various issues relating to commercial fishing industry safety. The meetings are open to the public.

DATES: CFIVAC will meet on Tuesday, August 22, 2000, from 7:30 a.m. to 5:00 p.m and Wednesday on August 23, 2000 from 7:30 a.m. to 5:00 p.m. These meetings may close early if all business is finished. Written material and requests to make oral presentations should reach the Coast Guard on or before August 14, 2000. Requests to have a copy of your material distributed to each member of the committee or subcommittee should reach Coast Guard on or before August 14, 2000.

ADDRESSES: The CFIVAC meeting will be held in Room 2415, U.S. Coast Guard Headquarters, 2100 Second St. SW., Washington DC. Written material and requests to make oral presentations should be sent to Lieutenant Jennifer Williams, Commandant (G-MOC-3), U.S. Coast Guard Headquarters, 2100 Second Street, SW., Washington, DC 20593-0001. This notice is available on the Internet http://dms.dot.gov.

FOR FURTHER INFORMATION CONTACT: Captain Jon Sarubbi, Executive Director of CFIVAC, or Lieutenant Jennifer Williams, Assistant to the Executive Director, telephone (202) 267-0507.

SUPPLEMENTARY INFORMATION: Notice of these meetings is given under the Federal Advisory Committee Act, 5 U.S.C. App. 2.

Agenda of Meetings on August 22, 2000

Action Plan summary and Regional Listening Session Results—Summarize elements of the Commercial Fishing Vessel Safety Action Plan (CFVSAP) that were presented during seven Regional Listening Sessions held around the nation and present feedback submitted by the public on the CFVSAP consisting of verbal and written comments to the Coast Guard, as well as survey results.

Recommendations for new commercial fishing vessel safety initiatives—Present Coast Guard recommendations for certain new commercial fishing vessel safety initiatives developed after the consideration of Regional Listening Session results and existing commercial fishing industry data was analyzed. Receive input from Advisory Committee on proposed recommendations and new initiatives.

Agenda of Meetings of CFIVAC on August 23, 2000

(1) Subcommittee on Data and Analysis—Subcommittee members to identify fishing vessel industry numerator and denominator data, recommend revision to existing data collection, and recommend changes to CG Form 2692.

(2) Subcommittee on Regionalization—Subcommittee members to identify fishing vessel industry safety issues that should be addressed with a regional/local focus.

(3) Subcommittee on Training requirements—Subcommittee members to identify what training standards should be applied to the fishing vessel industry.

(4) Subcommittee on Examination requirements—Subcommittee members to recommend details and or requirements for a mandatory dockside safety examination program for the commercial fishing vessel industry.

Procedural

Both meetings are open to the public. Please note that the meetings may close early if all business is finished. At the Chairs' discretion, members of the public may make oral presentations during the meetings, please notify the Executive Director no later than August 14, 2000. Written material for distribution at a meeting should reach the Coast Guard no later than August 8, 2000. If you would like a copy of your material distributed to each member of the committee or subcommittee in advance of a meeting, please submit 25 copies to the to the Executive Director no later than August 7, 2000.

Information on Services for Individuals With Disabilities

For information on facilities or services for individuals with disabilities or to request special assistance at the meetings, contact the Executive Director as soon as possible.

Dated: July 24, 2000.
Joseph J. Angelo,
Assistant Commandant for Marine Safety and Environmental Protection, Acting.

[FR Doc. 00-19222 Filed 7-28-00; 8:45 am]

BILLING CODE 4910-15-P